DEPARTMENT OF DEFENSE

Department of the Navy

Privacy Act of 1974; System of Records

AGENCY: Department of the Navy, DoD.

ACTION: Notice to add a system of records.

SUMMARY: The Department of the Navy proposes to add a system of records notice to its inventory of record systems subject to the Privacy Act of 1974 (5 U.S.C. 552a), as amended.

DATES: This action will be effective on June 9, 2003 unless comments are received that would result in a contrary determination.

ADDRESSES: Send comments to the Department of the Navy, PA/FOIA Policy Branch, Chief of Naval Operations (N09B10), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system report, as required by 5 U.S.C. 552a(r) of the Privacy Act, was submitted on April 21, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: April 28, 2003.
Patricia L. Toppings,
Alternate OSD Federal Register Liaison Officer, Department of Defense.

N05100-4

System name:

Occupational Injuries/Illnesses Log.

System location:

Organizational elements of the Department of the Navy. Official mailing addresses are published as an appendix to the Navy's compilation of systems of records notices.

Categories of individuals covered by the system:

Navy military, civilian personnel, non-appropriated and foreign national civilian personnel who are involved in accidents or occupational illnesses that result in lost time, government or private property damage or destruction, and personnel injury or death.

Categories of records in the system:

The Log contains a civilian/military indicator, event reference number, case or file number, unit identification code (UIC), activity name, major command code, last name, first name and middle initial, department, sex, age, job title, rank/rate/grade, Social Security Number, date of mishap/illness, time of mishap/illness, general location of mishap/illness, lost workday count, injury/illness type, Occupational Safety and Health Administration (OSHA) code, part(s) of body injured, mishap/illness type, object involved (injury source), process control number (job/activity at time of mishap), chemical involved, chemical comments, formal training involved; case type (fatality, lost time, no lost time, first aid), mishap class, date of death, short narrative, start date, sent date, and claims information.

Authority for maintenance of the system:

10 U.S.C. 5013, Secretary of the Navy; DoD Instruction 6055.7, Accident Investigation, Reporting, and Record Keeping; and E.O. 12196, Occupational Safety and Health Programs for Federal Employees; and E.O. 9397 (SSN).

Purpose(s):

To collect injury and occupational illnesses required of Federal governmental agencies by the Occupational Safety and Health Administration (OSHA). The summary data of occupational injuries or illnesses maintained in this log will be used for analytical purposes to improve the Department of the Navy's accident prevention policies, procedures, standards, and operations as well as ensure internal data quality assurance.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of the Navy's compilation of systems of records notices apply to this system.

Policies and practices for storing, retrieving, accessing, retaining, and disposing of records in the system:

Storage:

Paper and electronic records.

Retrievability:

By individual's name, Social Security Number, location of the accident or illness, or date of mishap or illness.

Safeguards:

File cabinets and computer terminals are located in limited access areas and handled by personnel that are properly trained in working with automated Privacy Act systems of records. Computer terminals are password protected.

Retention and disposal:

Naval Safety Center computerized records are maintained for 20 fiscal years following the end of the fiscal year to which they relate. All other records held outside of the Naval Safety Center are maintained for five years following the end of the fiscal year to which they relate and then destroyed.

System manager(s) and address:

Policy Official: Commander, Naval Safety Center, 375 A Street, Norfolk, VA 23511-4399.

Local Record Holders:

Organizational elements of the Department of the Navy. Official mailing addresses are published as an appendix to the Navy's compilation of systems of records notices.

Notification procedure:

Individuals seeking to determine whether information about themselves is contained in this system should address written inquiries to the Commanding Officer of the local activity where the mishap or injury occurred.

The request should contain full name, Social Security Number and address of the individual concerned and should be signed.

Record access procedures:

Individuals seeking access to information about themselves contained in this system should address written inquiries to the Commanding Officer of the local activity where the mishap or injury occurred.

The request should contain full name, Social Security Number and address of the individual concerned and should be signed.

Contesting record procedures:

The Navy's rules for accessing records, and for contesting contents and appealing initial agency determinations are published in Secretary of the Navy Instruction 5211.5; 32 CFR part 701; or may be obtained from the system manager.

Record source categories:

Mishap Investigation Reports, departmental records such as personnel file excerpts, medical record excerpts, State and Federal records, and excerpts of police reports, witness statements and general correspondence.

Exemptions claimed for the system:

None.

[FR Doc. 03-11578 Filed 5-8-03; 8:45 am]

BILLING CODE 5001-08-P